OFFICE OF THE UNITED STATES TRADE REPRESENTATIVE

[Docket No. USTR-2013-0023]

Notice of Rescheduled Hearing in the Section 301 Investigation of Ukraine

AGENCY: Office of the United States Trade Representative.

ACTION: Notice.

SUMMARY: The public hearing in the Section 301 investigation of the intellectual property acts, policies, and practices of the Government of Ukraine that resulted in the identification of Ukraine as a priority foreign country is rescheduled for 10:30 a.m. on September 9, 2013.

DATES: Persons wishing to testify orally at the rescheduled public hearing must provide written notification of their intention, as well as a summary of their hearing testimony, by August 16, 2013. A written version of hearing testimony is due by August 28, 2013. The public hearing will be held on September 9, 2013, beginning at 10:30 a.m., at Conference Rooms 1 and 2 at the offices of USTR, 1724 F Street NW., Washington, DC 20508. Persons wishing to provide written comments and/or rebuttal comments to the hearing testimony must do so by September 23, 2013.

ADDRESSES: Notifications of intent to testify, testimony summaries, written testimony, and comments should be submitted electronically via www.regulations.gov, docket number USTR-2013-0023. If you are unable to provide submissions at www.regulations.gov, please contact Gwendolyn Diggs, Staff Assistant to the Section 301 Committee, at (202) 395-3150, to arrange for an alternative method of transmission.

FOR FURTHER INFORMATION CONTACT: For procedural questions concerning submissions, please contact Gwendolyn Diggs at the above number. Questions regarding this investigation should be directed as appropriate to: Elizabeth Kendall, Director for Intellectual Property and Innovation, Office of the United States Trade Representative, at (202) 395-3580; Isabella Detwiler, Director for Europe, at (202) 395-6146; or Shannon Nestor, Assistant General Counsel, at (202) 395-3150. General questions regarding Section 301 investigations should be directed to William Busis, Deputy Assistant U.S. Trade Representative for Monitoring & Enforcement and Chair of the Section 301 Committee, at (202) 395-3150. Additional information on the investigation may be posted at www.ustr.gov, under Trade Topics—Enforcement.

SUPPLEMENTARY INFORMATION: On May 30, the Office of the United States Trade Representative initiated an investigation into the intellectual property acts, policies, and practices of the Government of Ukraine that resulted in the identification of Ukraine as a priority foreign country. See Identification of Ukraine as a Priority Foreign Country and Initiation of Section 301 Investigation, 78 FR 33886 (June 5, 2013). As indicated above, the date for the public hearing and the due dates for notifications of intent to testify, testimony summaries, written testimony, and comments have been rescheduled. Further information regarding requirements for submissions is included in the notice of initiation (78 FR 33886). Persons who have already submitted notifications of intent to testify do not need to resubmit a notification for the rescheduled hearing date.

William Busis,
Chair, Section 301 Committee.

[FR Doc. 2013-17845 Filed 7-24-13; 8:45 am]

BILLING CODE 3290-F3-P